DEPARTMENT OF THE INTERIOR

Bureau of Land Management

[AK-011-08-1610-DR-087L]

Notice of Availability of the Record of Decision for the Bay Resource Management Plan/Environmental Impact Statement (RMP/EIS)

AGENCY: Bureau of Land Management, Interior.

ACTION: Notice of Availability of Record of Decision.

SUMMARY: The BLM announces the availability of the Record of Decision (ROD) and Approved RMP for the Bay planning area, located in southwest Alaska. The State Director signed the ROD on November 4, 2008. This constitutes the final decision of the BLM and makes the approved RMP effective immediately.

ADDRESSES: Copies of the Bay ROD and Approved RMP are available on request from the Field Manager, Anchorage Field Office, Bureau of Land Management, 4700 BLM Road, Anchorage, AK 99507, or on the Internet at http://www.blm.gov/ak.

FOR FURTHER INFORMATION CONTACT: James M. Fincher, Field Manager, Anchorage Field Office, 4700 BLM Road, Anchorage, AK 99507, (907) 267-1285 or toll free (800) 478-1263.

SUPPLEMENTARY INFORMATION: The Bay RMP was developed with broad public participation through a three-year collaborative planning process. This RMP/ROD addresses management of approximately 1.9 million acres of BLM-administered public lands and mineral estate in the planning area. The Bay RMP/ROD is designed to achieve or maintain desired future conditions identified through the planning process. It includes management direction to meet the desired resource conditions for upland and riparian vegetation, wildlife habitats, cultural and visual resources, and recreation.

The approved Bay RMP is nearly the same as Alternative D in the Bay Proposed RMP/Final EIS, published in December 2007.

As a result of protests and the Governor's consistency review, minor modifications and clarifications were made to portions of the analysis presented in the Bay Proposed RMP/Final EIS and are discussed in the Record of Decision.

No inconsistencies with State or local plans, policies, or programs were identified during the Governor's consistency review of the Proposed RMP/Final EIS.

Authority: H-1790-1 National Environmental Policy Act Handbook—January 30, 2008.

Vincent Galterio,
Acting State Director.

[FR Doc. E8-27026 Filed 11-13-08; 8:45 am]

BILLING CODE 4310-JA-P